DEPARTMENT OF COMMERCE

International Trade Administration

[A-570-954, C-570-955]

Certain Magnesia Carbon Bricks From the People's Republic of China: Preliminary Results of Covered Merchandise Inquiry

AGENCY: Enforcement and Compliance, International Trade Administration, Department of Commerce.

SUMMARY: The U.S. Department of Commerce (Commerce) preliminarily determines that certain refractory brick samples tested by U.S. Customs and Border Protection (CBP) do not reflect the chemical composition of magnesia alumina carbon (MAC) bricks and are covered by the antidumping duty (AD) and countervailing duty (CVD) orders on certain magnesia carbon bricks (bricks) from the People's Republic of China (China). Additionally, Commerce preliminarily finds that it is unable to determine whether certain other samples tested by CBP have the chemical composition of a bricks subject to the AD and CVD orders on bricks from China. Interested parties are invited to comment on these preliminary results.

DATES: Applicable February 16, 2023.

FOR FURTHER INFORMATION CONTACT: Brittany Bauer, AD/CVD Operations Office V, Enforcement and Compliance, International Trade Administration, U.S. Department of Commerce, 1401 Constitution Avenue NW, Washington, DC 20230; telephone: (202) 482-3860.

SUPPLEMENTARY INFORMATION:

Background

On July 20, 2022, Commerce published in the Federal Register a notice of a covered merchandise referral and the initiation of a covered merchandise inquiry to determine whether certain refractory bricks are subject to the AD and CVD orders on bricks from China.¹ For a complete description of the events that followed the initiation of this inquiry, see the Preliminary Decision Memorandum.² A list of topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, the Preliminary Decision Memorandum can be accessed directly at https://access.trade.gov/public/FRNoticesListLayout.aspx.

¹ See Certain Magnesia Carbon Bricks from the People's Republic of China: Notice of Covered Merchandise Referral and Initiation of Covered Merchandise Inquiry, 87 FR 43238 (July 20, 2022) (Initiation Notice); see also Certain Magnesia Carbon Bricks from Mexico and the People's Republic of China: Antidumping Duty Orders,75 FR 57257 (September 20, 2010); and Certain Magnesia Carbon Bricks from the People's Republic of China: Countervailing Duty Order, 75 FR 57442 (September 21, 2010) (collectively, Orders).

² See Memorandum, “Certain Magnesia Carbon Bricks from the People's Republic of China: Decision Memorandum for the Preliminary Results of Covered Merchandise Inquiry—EAPA Inv. 7412,” dated concurrently with, and hereby adopted by, this notice (Preliminary Decision Memorandum).

Scope of the Orders

The merchandise covered by the Orders is magnesia carbon bricks. For a complete description of the scope of the Orders, see the Preliminary Decision Memorandum.

Merchandise Subject to the Covered Merchandise Inquiry

The products subject to this inquiry are refractory bricks which were imported by Fedmet Resources Corporation (Fedmet). CBP's laboratories tested 11 samples from these bricks and provided the results of chemical composition tests for the merchandise in its referral to Commerce.

Methodology

Commerce is conducting this covered merchandise inquiry in accordance with section 517 of the Tariff Act of 1930, as amended (the Act) and 19 CFR 351.227. For a full description of the methodology underlying Commerce's preliminary results, see the Preliminary Decision Memorandum.

Preliminary Findings

We preliminarily determine, pursuant to 19 CFR 351.227(f), that certain bricks tested by CBP laboratories do not constitute (non-subject) MAC bricks and are subject to the scope of the Orders. Although we can make such a determination for two of the eleven brick samples, the information on the remaining nine samples is indeterminate regarding the proper scope classification for the underlying product tested by CBP. In reaching this preliminary determination, we relied on information placed on the record by the Magnesia Carbon Bricks Fair Trade Committee and Fedmet, as well as the documents included with the referral from CBP. For a full description of the methodology underlying our conclusions, see the Preliminary Decision Memorandum.

Suspension of Liquidation

As stated above, Commerce has made a preliminary affirmative finding that certain bricks tested by CBP, which were the subject of this referral from CBP, are subject to the scope of the Orders. This affirmative in-scope finding applies on a country-wide basis, regardless of the producer, exporter, or importer, to all products from the same country with the same relevant physical characteristics as the products at issue. Therefore, in accordance with 19 CFR 351.227(l)(2), Commerce will direct CBP to: (1) continue the suspension of liquidation of previously suspended entries and apply the applicable cash deposit rate; (2) begin the suspension of liquidation and require a cash deposit of estimated duties, at the applicable rate, for each unliquidated entry of the product not yet suspended, entered, or withdrawn from warehouse, for consumption on or after July 20, 2022, the date of publication of the notice of initiation of this covered merchandise inquiry in the Federal Register; and (3) begin the suspension of liquidation and require a cash deposit of estimated duties, at the applicable rate, for each unliquidated entry of the product not yet suspended, entered, or withdrawn from warehouse, for consumption prior to July 20, 2022.³

³ See Initiation Notice.

Public Comment

Case briefs or other written comments may be submitted to the Assistant Secretary for Enforcement and Compliance. Pursuant to 19 CFR 351.227(d)(3), interested parties may submit case briefs no later than seven days after the date of publication of this notice. Rebuttal briefs, limited to issues raised in the case briefs, may be filed not later than seven days after the date of filing for case briefs.⁴ Parties who submit case briefs or rebuttal briefs in this proceeding are requested to submit with each argument: (1) a statement of the issue; (2) a brief summary of the argument; and (3) a table of authorities.⁵ Executive summaries should be limited to five pages total, including footnotes.⁶ All submissions, with limited exceptions, must be filed electronically using ACCESS.⁷ Comments must be received successfully in their entirety by ACCESS by 5:00 p.m. Eastern Time on the due date. Note that Commerce has temporarily modified certain of its requirements for serving documents containing business proprietary information, until further notice.⁸ Each submission must be placed on the record of the segment of the proceeding for the AD order (A-570-954), ACCESS Covered Merchandise Inquiry segment “EAPA—7412.”

⁴ See 19 CFR 351.227(d)(3); see also Temporary Rule Modifying AD/CVD Service Requirements Due to COVID-19; Extension of Effective Period, 85 FR 41363 (July 10, 2020) (Temporary Rule).

⁵ See 19 CFR 351.309(c)(2) and (d)(2).

⁶ Id.

⁷ See 19 CFR 351.303.

⁸ See Temporary Rule.

Pursuant to 19 CFR 351.310(c), interested parties who wish to request a hearing, limited to issues raised in the case and rebuttal briefs, must submit a written request to the Assistant Secretary for Enforcement and Compliance, U.S. Department of Commerce, filed electronically and received successfully in its entirety via ACCESS by 5:00 p.m. Eastern Time within 10 days after the date of publication of this notice.⁹ Hearing requests should contain: (1) the party's name, address, and telephone number; (2) the number of participants; (3) whether any participant is a foreign national; and (4) a list of the issues to be discussed. If a request for a hearing is made, Commerce intends to hold the hearing at a time and date to be determined. Parties should confirm by telephone the date, time, and location of the hearing two days before the scheduled date.

⁹ Commerce is exercising its discretion under 19 CFR 351.310(c) to alter the time limit for requesting a hearing.

Notification to Interested Parties

This notice is issued and published pursuant to section 517 of the Act and 19 CFR 351.227(e)(1).

Dated: February 10, 2023.
Lisa W. Wang,
Assistant Secretary for Enforcement and Compliance.

Appendix—List of Topics Discussed in the Preliminary Decision Memorandum

I. Summary

II. Background

III. Scope of the Orders

IV. Description of Merchandise Subject to this Inquiry

V. Legal Framework

VI. Interested Party Comments

VII. Analysis

VIII. Recommendation

[FR Doc. 2023-03324 Filed 2-16-23; 8:45 am]

BILLING CODE 3510-DS-P